DEPARTMENT OF ENERGY

Federal Energy Regulatory Commission

[Docket Nos. ER22-2306-000; ER22-2303-000; ER22-2307-000; ER22-2346-000; ER22-2356-001; ER22-2348-000; ER22-2349-000]

Notice of Motion for Deferral of Effective Date: Black Hills Colorado Electric, LLC; Black Hills Power, Inc.; Cheyenne Light, Fuel and Power Company; El Paso Electric Company; Public Service Company of Colorado; Tucson Electric Power Company; UNS Electric, Inc.

On March 19, 2025, Black Hills Power, Inc., Black Hills Colorado Electric, LLC, Cheyenne Light, Fuel and Power Company, El Paso Electric Company, Public Service Company of Colorado, Tucson Electric Power Company, and UNS Electric, Inc. (collectively, SPP West Customers) filed a joint motion for deferral of the effective date for the Open Access Transmission Tariff (Tariff) revisions approved by the Commission ¹ to comply with the requirements of Order Nos. 881 and 881-A.² The SPP West Customers request that the Commission grant a deferral of the effective date of these Tariff revisions from July 12, 2025, until September 1, 2026. The SPP West Customers explain that they receive reliability coordinator services from the Southwest Power Pool, Inc. (SPP), which recently filed a motion for deferral of the effective date for its Order No. 881 tariff provisions due to delays in the delivery of crucial software necessary for SPP, and SPP transmission owners, to test and implement the systems and process necessary to comply with Order No. 881. Accordingly, the SPP West Customers have determined they must also request deferral of their respective Order No. 881 compliance tariff provisions. The SPP West Customers request that the Commission issue an order on the joint motion by May 2, 2025.

¹ See Black Hills Colo. Elec., LLC, 184 FERC ¶ 61,171, at P 1 (2023); Black Hills Power, Inc., 183 FERC ¶ 61,039, at P 1 (2023); Cheyenne Light, Fuel & Power Co., 184 FERC ¶ 61,049, at P 1 (2023); El Paso Elec. Co., 183 FERC ¶ 61,104, P 1 (2023); Pub. Serv. Co. of Colo., 183 FERC ¶ 61,105, at P 1 (2023); Tucson Elec. Power Co., 184 FERC ¶ 61,175, at P 1 (2023); UNS Elec., Inc., 184 FERC ¶ 61,178, at P 1 (2023).

² Managing Transmission Line Ratings, Order No. 881, 177 FERC ¶ 61,179 (2021), order addressing arguments raised on reh'g, Order No. 881-A, 179 FERC ¶ 61,125 (2022).

Answers to the motion must be filed by 5:00 p.m. Eastern Time on Wednesday, April 9, 2025.

Dated: March 26, 2025.
Debbie-Anne A. Reese,
Secretary.

[FR Doc. 2025-05554 Filed 3-31-25; 8:45 am]

BILLING CODE 6717-01-P